DEPARTMENT OF COMMERCE

National Oceanic and Atmospheric Administration

RIN 0648-XB127

International Whaling Commission; 64th Annual Meeting; Nominations

AGENCY: National Marine Fisheries Service (NMFS), National Oceanic and Atmospheric Administration (NOAA), Commerce.

ACTION: Notice; request for nominations.

SUMMARY: This notice is a call for nominees for the U.S. Delegation to the July 2012 International Whaling Commission (IWC) annual meeting. The non-federal representative(s) selected as a result of this nomination process is(are) responsible for providing input and recommendations to the U.S. IWC Commissioner representing the positions of non-governmental organizations. Generally, only one non-governmental position is selected for the U.S. Delegation.

DATES: The IWC is holding its 64th annual meeting from July 2-6, 2012, at the El Panama Hotel in Panama City, Panama. All written nominations for the U.S. Delegation to the IWC annual meeting must be received by May 7, 2012.

ADDRESSES: All nominations for the U.S. Delegation to the IWC annual meeting should be addressed to Ms. Monica Medina, U.S. Commissioner to the IWC, and sent via post to: Melissa Andersen, National Marine Fisheries Service, Office of International Affairs, 1315 East-West Highway, SSMC3 Room 10876.2, Silver Spring, MD 20910.

FOR FURTHER INFORMATION CONTACT: Melissa Andersen at Melissa.Andersen@noaa.gov or 301-427-8385.

SUPPLEMENTARY INFORMATION: The Secretary of Commerce is charged with the responsibility of discharging the domestic obligations of the United States under the International Convention for the Regulation of Whaling, 1946. The U.S. IWC Commissioner has responsibility for the preparation and negotiation of U.S. positions on international issues concerning whaling and for all matters involving the IWC. The U.S. IWC Commissioner is staffed by the Department of Commerce and assisted by the Department of State, the Department of the Interior, the Marine Mammal Commission, and by other agencies. The non-federal representative(s) selected as a result of this nomination process is(are) responsible for providing input and recommendations to the U.S. IWC Commissioner representing the positions of non-governmental organizations. Generally, only one non-governmental position is selected for the U.S. Delegation.

Dated: March 28, 2012.
Rebecca Lent,
Director, Office of International Affairs, National Marine Fisheries Service.

[FR Doc. 2012-7852 Filed 3-30-12; 8:45 am]

BILLING CODE 3510-22-P